INTERNATIONAL TRADE COMMISSION

[Investigation Nos. 701-TA-739-740 and 731-TA-1716-1717 (Final)]

Thermoformed Molded Fiber Products From China and Vietnam; Determinations

On the basis of the record ¹ developed in the subject investigations, the United States International Trade Commission (“Commission”) determines, pursuant to the Tariff Act of 1930 (“the Act”), that an industry in the United States is materially injured by reason of imports of thermoformed molded fiber products (TMFPs) from China and Vietnam, provided for in subheading 4823.70.00 of the Harmonized Tariff Schedule of the United States, that have been found by the U.S. Department of Commerce (“Commerce”) to be sold in the United States at less than fair value (“LTFV”), and imports of the subject merchandise from China and Vietnam that have been found to be subsidized by the governments of China and Vietnam.2 3

¹ The record is defined in § 207.2(f) of the Commission's Rules of Practice and Procedure (19 CFR 207.2(f)).

² 90 FR 46787, 90 FR 46791, 90 FR 46800, and 90 FR 46805 (September 30, 2025).

³ The Commission also finds that imports subject to Commerce's affirmative critical circumstances determination are likely to undermine seriously the remedial effect of the countervailing duty orders on TMFPs from Vietnam. Commissioner Johanson dissented with respect to the critical circumstances determination.

Background

The Commission instituted these investigations effective October 8, 2024, following receipt of petitions filed with the Commission and Commerce by American Molded Fiber Coalition, which is comprised of Genera Inc. (“Genera”), Vonore, Tennessee; Tellus Products, LLC (“Tellus”), Belle Glade, Florida; and the United Steel, Paper and Forestry, Rubber, Manufacturing, Energy, Allied Industrial and Service Workers International Union, AFL-CIO (“USW”). The final phase of the investigations was scheduled by the Commission following notification of preliminary determinations by Commerce that imports of TMFPs from China and Vietnam were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on May 12, 2025 (90 FR 23066, May 30, 2025, as revised in 90 FR 25642, June 17, 2025).⁴ The Commission conducted its hearing on September 30, 2025. All persons who requested the opportunity were permitted to participate.

⁴ Due to the lapse in appropriations and ensuing cessation of Commission operations, the Commission tolled its schedule for this proceeding. The schedule was revised in a subsequent notice published in the Federal Register on November 21, 2025 (90 FR 52697).

The Commission made these determinations pursuant to §§ 705(b) and 735(b) of the Act (19 U.S.C. 1671d(b) and 19 U.S.C. 1673d(b)). It completed and filed its determinations in these investigations on January 5, 2025. The views of the Commission are contained in USITC Publication 5964 (January 2026), entitled Thermoformed Molded Fiber Products from China and Vietnam: Investigation Nos. 701-TA-739-740 and 731-TA-1716-1717 (Final).

By order of the Commission.
Issued: January 5, 2026.
Susan Orndoff,
Supervisory Attorney.

[FR Doc. 2026-00076 Filed 1-6-26; 8:45 am]

BILLING CODE 7020-02-P